FEDERAL COMMUNICATIONS COMMISSION

47 CFR Part 73

[MB Docket No. 14-255, RM-11742, DA 15-442]

Radio Broadcasting Services; Shelter Island, New York

AGENCY: Federal Communications Commission.

ACTION: Final rule.

SUMMARY: The Audio Division amends the FM Table of Allotments, by allotting Channel 277A at Shelter Island, New York, as the community's first local service. A staff engineering analysis indicates that Channel 277A can be allotted to Shelter Island consistent with the minimum distance separation requirements of the Commission's Rules with a site restriction located 12 kilometers (7.5 miles) south of the community. The reference coordinates are 40-57-54 NL and 72-22-59 WL.

DATES: Effective: May 25, 2015.

FOR FURTHER INFORMATION CONTACT: Rolanda F. Smith, Media Bureau, (202) 418-2700.

SUPPLEMENTARY INFORMATION: This is a synopsis of the Commission's Report and Order, MB Docket No. 14-255, adopted April 9, 2015, and released April 10, 2015. The full text of this Commission decision is available for inspection and copying during normal business hours in the FCC's Reference Information Center at Portals II, CY-A257, 445 12th Street SW., Washington, DC 20554. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under New York, is amended by adding Shelter Island, Channel 277A.

[FR Doc. 2015-09855 Filed 4-27-15; 8:45 am]

BILLING CODE 6712-01-P